DEPARTMENT OF ENERGY

Federal Energy Regulatory Commission

Combined Notice of Filings

Take notice that the Commission has received the following Natural Gas Pipeline Rate and Refund Report filings:

Filings Instituting Proceedings

Docket Numbers: RP16-1043-000.

Applicants: Texas Eastern Transmission, LP.

Description: Section 4(d) Rate Filing: Negotiated Rates—July 2016 Chevron TEAM 2014 Releases to be effective 7/1/2016.

Filed Date: 6/27/16.

Accession Number: 20160627-5128.

Comments Due: 5 p.m. ET 7/11/16.

Docket Numbers: RP16-1044-000.

Applicants: Texas Eastern Transmission, LP.

Description: Section 4(d) Rate Filing: TETLP Jun2016 Cleanup Filing—Non-conforming Agreements List to be effective 7/1/2016.

Filed Date: 6/27/16.

Accession Number: 20160627-5166.

Comments Due: 5 p.m. ET 7/11/16.

Docket Numbers: RP16-1045-000.

Applicants: Alliance Pipeline L.P.

Description: Section 4(d) Rate Filing: BP Settlement Filing to be effective 8/1/2016.

Filed Date: 6/27/16.

Accession Number: 20160627-5169.

Comments Due: 5 p.m. ET 7/11/16.

Docket Numbers: RP16-1046-000.

Applicants: DBM Pipeline, LLC.

Description: Section 4(d) Rate Filing: Negotiated Rate Filing to be effective 7/1/2016.

Filed Date: 6/28/16.

Accession Number: 20160628-5131.

Comments Due: 5 p.m. ET 7/11/16.

Docket Numbers: RP16-1047-000.

Applicants: Big Sandy Pipeline, LLC.

Description: Section 4(d) Rate Filing: Big Sandy EPC 2016 to be effective 8/1/2016.

Filed Date: 6/28/16.

Accession Number: 20160628-5231.

Comments Due: 5 p.m. ET 7/11/16.

Docket Numbers: RP16-1048-000.

Applicants: Transcontinental Gas Pipe Line Company,

Description: Section 4(d) Rate Filing: Non-Conforming Agreement_Rock Springs to be effective 8/1/2016.

Filed Date: 6/29/16.

Accession Number: 20160629-5001.

Comments Due: 5 p.m. ET 7/11/16.

Docket Numbers: RP16-1049-000.

Applicants: Transcontinental Gas Pipe Line Company,

Description: Section 4(d) Rate Filing: Update List of Non-Conforming Service Agreements (Rock Springs) to be effective 8/1/2016.

Filed Date: 6/29/16.

Accession Number: 20160629-5002.

Comments Due: 5 p.m. ET 7/11/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2016.
Nathaniel J. Davis, Sr.,
Deputy Secretary.

[FR Doc. 2016-16240 Filed 7-8-16; 8:45 am]

BILLING CODE 6717-01-P